DEPARTMENT OF THE TREASURY

Office of the Comptroller of the Currency

[OCC Charter Number 702397]

Sunnyside Federal Savings and Loan Association of Irvington, Irvington, New York; Approval of Conversion Application

Notice is hereby given that on May 15, 2013, the Office of the Comptroller of the Currency (OCC) approved the application of Sunnyside Federal Savings and Loan Association of Irvington, Irvington, New York, to convert to the stock form of organization. Copies of the application are available for inspection on the OCC Web site at the FOIA Reading Room https://foia-pal.occ.gov/palMain.aspx under Mutual to Stock Conversion Applications. If you have any questions, please call OCC Licensing Activities at (202) 649-6260.

Dated: June 24, 2013.
By the Office of the Comptroller of the Currency.
Stephen A. Lybarger,
Deputy Comptroller for Licensing.

[FR Doc. 2013-15901 Filed 7-2-13; 8:45 am]

BILLING CODE 4810-33-P